DEPARTMENT OF THE INTERIOR

National Park Service

Draft General Management Plan/Environmental Impact Statement for the Ice Age Complex at Cross Plains, Cross Plains, Wisconsin

AGENCY: National Park Service, Interior.

ACTION: Notice of availability.

SUMMARY: Under the National Environmental Policy Act of 1969, the National Park Service (NPS) announces the availability and requests comments on a draft General Management Plan/Environmental Impact Statement for the Ice Age Complex at Cross Plains, Wisconsin

DATES: The draft General Management Plan/Environmental Impact Statement (GMP/EIS) will remain available for public review and comment for 60 days following the Environmental Protection Agency's publication in the “Federal Register” of a notice of availability. Public meetings will be held during the 60-day review period on the GMP/EIS in the Cross Plains, Wisconsin area.

ADDRESSES: Copies of the draft GMP/EIS are available from the Superintendent, 700 Rayovac Drive, Suite 100, Madison, Wisconsin 53711.

Meeting times and locations will be announced in the local press, sent out to the mailing list for this project, and uploaded to the plan Web site at www.parkplanning.nps.gov/iatr.

You may submit your comments by any one of several methods. You may comment via the Internet through the Web site above. You may also send comments to Superintendent, Ice Age National Scenic Trail, 700 Rayovac Drive, Suite 100, Madison, Wisconsin 53711. You may contact the Superintendent by phone at 402-441-5610 or by facsimile at 608-441-5606. Finally, you may hand-deliver comments to the Ice Age National Scenic Trail headquarters at the address above.

FOR FURTHER INFORMATION CONTACT: Superintendent, Ice Age National Scenic Trail, 700 Rayovac Drive, Suite 100, Madison, Wisconsin 53711. Telephone 402-441-5610.

SUPPLEMENTARY INFORMATION: This GMP/EIS is a joint state and federal effort addressing lands within the Cross Plains Unit of the Ice Age National Scientific Reserve as well as the Interpretive Site for the Ice Age National Scenic Trail; these lands are referred to as the “Ice Age Complex at Cross Plains” for the purpose of this planning effort. This plan will guide the management of the Ice Age Complex at Cross Plains for the next 25 years.

The draft GMP/EIS considers five draft conceptual alternatives—a no-action and four action alternatives, including the NPS-preferred alternative. The draft GMP/EIS assesses impacts of the alternatives on soil resources, water quality, soundscapes, vegetation and wildlife, socioeconomics, and visitor use and experience. The preferred alternative focuses on providing visitors with interpretation of the evolution of the complex from the last glacial retreat to the present and opportunities to enjoy appropriate low-impact outdoor recreation. Ecological resources would largely be managed to reveal the glacial landscape. The most sensitive ecological areas would be carefully protected, and visitor access would be highly controlled in these areas. Visitors would experience a wide variety of indoor and outdoor interpretive programming. Under this alternative, the Ice Age Complex would serve as the headquarters for the Ice Age National Scenic Trail.

Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, and from individuals identifying themselves as representatives or officials of organizations or businesses, available for public inspection in their entirety.

Dated: February 17, 2012.
Michael T. Reynolds,
Regional Director, Midwest Region.

[FR Doc. 2012-5889 Filed 3-9-12; 8:45 am]

BILLING CODE 4312-KN-P